NUCLEAR WASTE TECHNICAL REVIEW BOARD

Board Meeting; November 20, 2013 in Washington, DC

The U.S. Nuclear Waste Technical Review Board will meet to discuss DOE SNF and HLW management research and development activities.

Pursuant to its authority under section 5051 of Public Law 100-203, Nuclear Waste Policy Amendments Act of 1987, the U.S. Nuclear Waste Technical Review Board will hold a public meeting in Washington, DC, on Wednesday, November 20, 2013, to discuss the U.S. Department of Energy's (DOE) research and development (R&D) activities related to its Used Fuel Disposition Program. The Board will hear presentations on a range of studies being supported by the Office of Used Fuel Disposition R&D, including research on long-term storage of high-burnup spent nuclear fuel (SNF), studies on direct disposal of large, dry-storage SNF containers in various geologic media, and evaluation of SNF and high-level radioactive waste disposal options. An overview of studies on advanced separations and waste form technologies being supported by the Office of Fuel Cycle R&D also will be presented. The public meeting will be preceded by a two-day workshop on the Impacts of Dry-Storage Canister Designs on Future Handling, Storage, Transportation, and Geologic Disposal of Spent Nuclear Fuel. A separate Federal Register notice will be issued on that workshop.

The meeting will begin at 8:00 a.m. and will be held at the Embassy Suites Hotel, 1250 22nd Street NW., Washington, DC 20037; Tel. (202) 857-3388. A block of rooms has been reserved at the hotel for meeting attendees. Reservations can be made online at http://embassysuites.hilton.com/en/es/groups/personalized/W/WASDNES-UNW-20131117/index.jhtml?WT.mc_id=POG or by calling 800-EMBASSY (800-362-2779). Reservations must be made by Friday, October 25, 2013, to ensure receiving the meeting rate. The reservation Group Code name is UNW.

A detailed agenda will be available on the Board's Web site at www.nwtrb.gov approximately one week before the meeting. The meeting will be open to the public, and opportunities for public comment will be provided at the end of the day. Those wanting to speak are encouraged to sign the “Public Comment Register” at the check-in table. A time limit may need to be set for individual remarks, but written comments of any length may be submitted for the record. Transcripts of the meeting will be available on the Board's Web site after December 18, 2013.

The Board was established in the 1987 amendments to the Nuclear Waste Policy Act (NWPA) as an independent agency in the Executive branch to perform an ongoing objective evaluation of the technical validity of activities undertaken by DOE related to implementing the NWPA. Board members are experts in their fields and are appointed by the President from a list of candidates submitted by the National Academy of Sciences. The Board is required to report its findings, conclusions, and recommendations to Congress and the Secretary. Board reports, correspondence, congressional testimony, and meeting transcripts and materials are posted on the Board's Web site.

For information on the meeting, contact Karyn Severson at severson@nwtrb.gov or Roberto Pabalan at pabalan@nwtrb.gov. For information on lodging or logistics, contact Linda Coultry at coultry@nwtrb.gov. They all can be reached by phone at 703-235-4473.

Dated: October 16, 2013.
Nigel Mote,
Executive Director, U.S. Nuclear Waste Technical Review Board.

[FR Doc. 2013-24700 Filed 10-22-13; 8:45 am]

BILLING CODE 6820-AM-M